DEPARTMENT OF HEALTH AND HUMAN SERVICES

Agency for Toxic Substances and Disease Registry

Notice of Meeting; Hair Analysis, Exploring State-of-the-Science Panel Discussion

Name: Agency for Toxic Substances and Disease Registry (ATSDR) announces panel discussion: Hair Analysis, Exploring the State-of-the-Science.

Times and Dates: 8 a.m.-5 p.m., June 12, 2001; 8 a.m.-12:30 p.m., June 13, 2001.

Place: Radisson Hotel, Executive Park Atlanta, 2061 N. Druid Hills Road, Atlanta, GA, 30329. To make hotel reservations, please call the hotel directly at 404-321-4174. Reference the “Hair Analysis Panel” to receive the group rate of $78.00 plus 12% tax. You must make your reservation before May 20, 2001. After this date any remaining rooms will be released from our block and sold on a space and rate available basis.

Purpose: ATSDR is holding a panel discussion to review and discuss the current state-of-the-science related to hair analysis. ATSDR has invited a cross-section of scientists with expertise in fields including hair analysis, toxicology, and medicine to participate in 1½ days of discussions on a variety of topics, including analytical methods, factors affecting the interpretation of analytical results, toxicologic considerations, and data gaps/research needs. Panel discussions will explore whether hair analysis is a useful tool in evaluating exposures to hazardous substances present in the environment. ATSDR will use the scientific input received as part of the discussions to develop a framework for determining when measuring contaminant levels in hair can help support scientifically defensible public health evaluations.

Status: Open to the public, limited only by space available. Seating is limited so please register in advance so that we can hold a space for you. Register by contacting ATSDR's contractor, Eastern Research Group, Inc. (ERG). ERG's meeting registration line is 781-674-7374; when you call this number, reference the “Hair Analysis Panel.” A limited amount of time will be set aside for members of the public to present brief oral comments regarding hair analysis scientific issues. Oral presentations will be limited to 10 minutes, and the number of people giving oral comments may be limited by the time available. Opportunity for making oral comment will be provided on a first-come, first-served basis; therefore, the public is encouraged to register in advance to present oral comments by contacting ERG's registration line at 781-674-7374. The public may also submit written comments. ATSDR will incorporate oral and written comments into its summary report. The report will capture the salient points of panel discussions and observer comments. After the meeting, the agency will consider all scientific input received to support the development of interim guidance regarding the use of hair analysis in ATSDR's public health evaluations.

Background Information: ATSDR conducts public health assessments to evaluate possible public health implications of contaminants associated with hazardous waste sites and other environmental releases. An important step in ATSDR's assessment process is examining exposures to contaminants under site-specific conditions and determining whether people are being exposed to harmful levels. In most of the agency's evaluations, the environmental concentration serves as a surrogate for “exposure.”

To refine its assessments and to fill data gaps, ATSDR sometimes identifies ways to more precisely quantify exposures, such as measuring body burdens of a particular contaminant or its metabolites (e.g., lead in blood). On a site-by-site basis, ATSDR evaluates what additional exposure data might be practical and useful to obtain to further support public health evaluations and ultimately to help determine the disease potential of a particular exposure. ATSDR seeks to determine the overall utility of hair analysis as one such exposure assessment tool. ATSDR's overall goal is to receive expert opinion on the following four general questions related to hair analysis. A number of specific questions related to these issues will also be discussed.

• When is it appropriate to consider hair analysis in assessing human exposures to environmental contaminants?

• When is it inappropriate to consider hair analysis in assessing human exposures to environmental contaminants?

• What data gaps exist that limit the interpretation and use of hair analysis in the assessment of environmental exposures? What research is needed to fill these data gaps?

• For what substances do reliable hair analysis methods exist?

Contact Person for More Information: Dr. Allan Susten, Assistant Director for Science, Division of Health Assessment and Consultation, ATSDR, at 404-639-0625 or Dr. Deanna Harkins, Medical Officer, Commissioned Corps of the U.S. Public Health Service, Division of Health Education and Promotion, ATSDR, at 404-639-4669. For questions about logistics, contact ERG at 781-674-7374.

The Director, Management Analysis and Services Office, has been delegated the authority to sign Federal Register Notices pertaining to announcements of meetings and other committee management activities, for both the Centers for Disease Control and Prevention and the Agency for Toxic Substances and Disease Registry.

Dated: May 18, 2001.
John Burckhardt,
Acting Director, Management Analysis and Services Office, Centers for Disease Control and Prevention.

[FR Doc. 01-13128 Filed 5-23-01; 8:45 am]

BILLING CODE 4163-18-P